DEPARTMENT OF COMMERCE

Census Bureau

Proposed Information Collection; Comment Request; Form BC-170, U.S. Census Employment Application and Form BC-171, Additional Applicant Information

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before June 11, 2018.

ADDRESSES: Direct all written comments to Jennifer Jessup, Departmental Paperwork Clearance Officer, Department of Commerce, Room 6616, 14th and Constitution Avenue NW, Washington, DC 20230 (or via the internet at PRAcomments@doc.gov). You may also submit comments, identified by Docket Number USBC-2018-0004, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Requests for additional information or copies of the information collection instrument(s) and instructions should be directed to Michael A. DeFrank, Chief, Management Services Branch. Mr. DeFrank can be reached by telephone on 301-763-2864 or by email at fld.decennial.oversight@census.gov.

SUPPLEMENTARY INFORMATION:

I. Abstract

The Census Bureau proposes consolidating the contents of the four forms used to collect information on job applicants into two new forms: The BC-170, U.S. Census Employment Application and the BC-171, Additional Applicant Information forms.

Currently, the Census Bureau uses the BC-170A, BC-170B, and BC-170D forms to collect applicant information such as personal data and work experience. Selecting officials review the applicant information indicated on these forms to evaluate the eligibility and quality of an applicant for employment at the Census Bureau. In addition, the Census Bureau uses the Equal Employment Opportunity Commission (EEOC) common use form 3046-0046, Demographic Information on Applicants for Federal Employment, to collect voluntary applicant data. All of these forms are available online in a PDF fillable format for applicants to complete and submit to the Regional Office. Paper forms of the BC-170A, B and D are available as a secondary option under some circumstances (i.e., special request, lack of internet access).

The Census Bureau currently uses the:

• BC-170A to collect applicant information for temporary office and field positions for current surveys such as the Current Population Survey (CPS).

• BC-170B to collect applicant information for temporary office and field positions for special censuses.

• BC-170D to collect applicant information for temporary office and field positions for Decennial censuses.

• EEOC common use form 3046-0046, Demographic Information on Applicants for Federal Employment, which asks about voluntary applicant information including Race, Hispanic Origin, and Disability.

Because the Census Bureau uses three different BC-170 forms based on the specific applicant information required for each operation, applicants interested in multiple positions across operations often need to submit duplicative information on different forms, which causes unnecessary burden on the applicants. Consequently, selecting officials often need to assess multiple forms that comprise duplicate information from the same applicant, which causes unnecessary burden on the selecting officials. Additionally, voluntary applicant information is currently captured across the three BC-170 forms and the EEOC common use form, Demographic Information on Applicants for Federal Employment, adding to the undue burden on both the applicant and human resources staff.

To address this issue, the Census Bureau intends to consolidate the contents of the four forms into two new forms, the BC-170, U.S. Census Employment Application and the BC-171, Additional Applicant Information forms. The current EEOC common use form 3046-0046, Demographic Information on Applicants for Federal Employment will be replaced by the BC-171. The BC-171 collects the same information as the EEOC common use form, including Race, Hispanic Origin, and Disability. In addition, the BC-171 contains the Education and Recruiting Sources questions needed to evaluate Census Bureau recruitment strategies. Upon receiving OMB approval for this submission, we would submit a “discontinue use” request for the EEOC common form.

The Census Bureau conducted a thorough review of the three BC-170 forms and the EEOC common form to identify, assess, and eliminate redundant and/or nonessential collection of data that contributed to unnecessary burden on the applicant. Table A below includes additional information on how the four forms were consolidated into the BC-170 and BC-171.

Table A
Content | Old forms: BC-170A | Old forms: BC-170B | Old forms: BC-170D | Old forms: EEOC common use form | New forms: BC-170 | New forms: BC-171
General Applicant Information | X | X | X |  | X |
Voluntary Applicant Information | X | X | X | X |  | X

The specific changes made to consolidate the BC-170A, B, and D are as follows:

1. Rearranged the contents so that the general applicant information questions, regardless of position and operations, appear in the BC-170 (e.g., Name, Address);

2. Removed the Prior Work Experience and Education fields as the Census Bureau no longer requires them to determine eligibility and/or qualifications of an applicant;

3. Removed the Driver's License field as the Census Bureau does not use this to determine eligibility and/or qualifications of an applicant;

4. Removed the Period of Service and Branch/Rank/Campaign Expeditionary Badge or Award sub-fields in the Veterans' Preference field as the Census Bureau already collects them elsewhere on the application through the DD-214 attachment;

5. Removed the Types of Work field as it is not needed to determine eligibility and/or qualifications of an applicant;

6. Added a Selective Service Number sub-field in the Selective Service field in the BC-170 so that the Census Bureau could use this information to adjudicate the application since the OF-306 is not required from all applicants;

7. Added additional lines to the Additional Information section in the BC-170 to allow applicants to provide detailed information, as needed;

8. Updated the Introduction section in the BC-170 with updated descriptions of the Types of Work, Duration of Work, Applicant Instructions, Eligibility, Pay, Training, Privacy Act Statement, and Assessment Instructions;

9. Updated the Availability field to capture general applicant availability broken down into Evenings, Weekends, and Weekdays in lieu of specific applicant availability broken down into Any Hours, Mornings, Afternoons, and Evenings segmented by days of the week;

10. Moved the Education question to the BC-171 to make it voluntary, as it is used to determine recruitment strategies and is not needed to determine eligibility and/or qualifications of an applicant;

11. Moved the Recruiting Sources question to the BC-171 to make it voluntary, as it is used to determine recruitment strategies and is not needed to determine eligibility and/or qualifications of an applicant.

The Census Bureau intends for applicants to access, complete, and submit both the BC-170 and BC-171 to human resources staff via the Census Schedule A Recruitment, Assessment, and Payroll System (C-SHARPS) online applicant system. The Census Bureau also intends for a paper form of the BC-170 and BC-171 to be accessible to applicants under some circumstances (i.e., special request, lack of internet access) and all forms will be available electronically in PDF format for applicants to complete and submit to the Regional Office. Lastly, C-SHARPS, paper forms and the online PDF format forms will be available in Spanish for both stateside and Puerto Rico.

II. Method of Collection

The main method of collection will be online using Census Schedule A Recruitment, Assessment, and Payroll System (C-SHARPS) accessible in English and Spanish for both stateside and Puerto Rico. The BC-170 and BC-171 will also be available in English and Spanish for both stateside and Puerto Rico:

• On paper as a secondary option under some circumstances (i.e., special request, lack of internet access),

• Online in PDF format for applicants to complete and submit to the Regional Office.

III. Data

OMB Control Number: 0607-0139.

Form Number(s): BC-170 and BC-171.

Type of Review: Change to a previous OMB approval.

Affected Public: Individuals or households.

Estimated Number of Respondents: 3,000,000 persons (Note that on non-Decennial periods of data collection after 2020, the estimated number of respondents annually is approximately 12,000 persons).

Estimated Time per Response: 20 minutes (Note that this is based on calculations that determined 15 minutes for completing the BC-170 and 5 minutes for completing the BC-171. The combined total is 20 minutes for applicants completing both forms).

Estimated Total Annual Burden Hours: 333,334 annual hours on average.

Estimated Total Annual Cost to Public: $0.

Respondent's Obligation: Required to obtain or retain benefits.

Legal Authority: Title 13 U.S.C., Chapter 1, Subchapter II, Section 23 a and c.; Title 5 U.S.C., Part II, Chapter 13; Title 5 U.S.C. Part III, Chapter 33, Subchapter 1, Section 1 and 20.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-07260 Filed 4-9-18; 8:45 am]

BILLING CODE 3510-07-P